DEPARTMENT OF TRANSPORTATION

Federal Aviation Administration

14 CFR Part 71

[Airspace Docket No. 00-AAL-07]

RIN 2120-AA66

Revision of VOR Federal V-480 and Jet Route J-120; AK

AGENCY: Federal Aviation Administration (FAA), DOT.

ACTION: Final Rule

SUMMARY: This action revises Very High Frequency Omnidirectional Range (VOR) Federal Airway 480 (V-480) and Jet Route 120 (J-120) in Alaska by adding a routinely used route segment between Mt. Moffett and St. Paul Island, AK. The FAA is revising these routes for the following reasons: The conversion of this uncharted nonregulatory route to a VOR Federal airway and jet route will add additional instrument flight rules (IFR) airway and route infrastructure in Alaska; pilots will be provided with minimum en route altitudes and minimum obstruction clearance altitudes information; to establish controlled airspace, thus eliminating some of the commercial IFR operations in uncontrolled airspace; and to improve the management of air traffic operations and thereby enhance safety.

EFFECTIVE DATE: 0901 UTC, March 22, 2001.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Background

On October 11, 2000, the FAA proposed to amend 14 CFR part 71 (part 71) to revise V-480 and J-120 (65 FR 60385). Interested parties were invited to participate in this rulemaking proceeding by submitting written comments on the proposal to the FAA. No comments were received. With the exception of editorial changes, this amendment is the same as that proposed in the notice.

The Rule

The FAA is amending part 71 to revise V-480 and J-120 in Alaska. The revision to V-480 and J-120 will add a routinely used route segment between Mt. Moffett and St. Paul Island, AK. Presently, there is an uncharted nonregulatory route segment with the same routing as this airway and jet route revision. The current route is used by air carrier and general aviation aircraft. The FAA is revising these routes for the following reasons: (1) The conversion of this uncharted nonregulatory route to a VOR Federal airway and jet route will add additional IFR airway and route infrastructure in Alaska; (2) pilots would be provided with minimum en route altitudes and minimum obstruction clearance altitude information; (3) to establish controlled airspace, thus eliminating some of the commercial IFR operations in uncontrolled airspace; and (4) to improve the management of air traffic operations and thereby enhance safety.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Jet routes are published in paragraph 2004 and Alaskan VOR Federal airways are published in paragraph 6010(b) of FAA Order 7400.9H dated September 1, 2000, and effective September 16, 2000, which is incorporated by reference in 14 CFR 71.1. The jet route and the Alaskan VOR Federal airway listed in this document will be published subsequently in the Order.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9H, Airspace Designations and Reporting Points, dated September 1, 2000, and effective September 16, 2000, is amended as follows:

Paragraph 2004—Jet Routes

* * * * *

J-120 [Revised]

From Mt. Moffett, AK, NDB via St. Paul Island, AK, NDB; Bethel, AK; McGrath, AK; Fairbanks, AK; Fort Yukon, AK; to the Barter Island, AK, NDB.

* * * * *

Paragraph 6010(b)—Alaskan VOR Federal Airways

* * * * *

V-480 [Revised]

From Mt. Moffett, AK, NDB, 20 AGL via St. Paul Island, AK, NDB, 20 AGL, Kipnuk, AK; Bethel, AK, McGrath, AK, Nenana, AK; to Fairbanks, AK.

* * * * *

Issued in Washington, DC, on January 23, 2001.
Reginald C. Matthews,
Manager, Airspace and Rules Division.

[FR Doc. 01-3643 Filed 2-12-01; 8:45 am]

BILLING CODE 4910-13-U